DEPARTMENT OF HOUSING AND URBAN DEVELOPMENT

24 CFR Part 236

[Docket No. FR-6439-C-02]

RIN 2502-AJ74

Removal of Obsolete Regulations for Section 236 of the National Housing Act; Correction

AGENCY: Office of the Assistant Secretary for Housing—Federal Housing Commissioner, U.S. Department of Housing and Urban Development (HUD).

ACTION: Final rule; correction.

SUMMARY: HUD is correcting a final rule entitled, “Removal of Obsolete Regulations for Section 236 of the National Housing Act” that published on June 4, 2024, to include the rule's Regulation Identifier Number (RIN).

DATES: Effective July 5, 2024.

FOR FURTHER INFORMATION CONTACT: Aaron Santa Anna, Associate General Counsel for Legislation and Regulations, Department of Housing and Urban Development, 451 7th Street SW, Room 10238, Washington, DC 20410; telephone number 202-708-1793 (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: On June 4, 2024 (89 FR 47849), HUD published a final rule titled “Removal of Obsolete Regulations for Section 236 of the National Housing Act.” The rule did not contain a RIN. This document corrects the final rule to include the RIN.

Correction

In the final rule titled “Removal of Obsolete Regulations for Section 236 of the National Housing Act” (89 FR 47849), FR Doc. 2024-12199, beginning on page 47849, in the Federal Register issue of June 4, 2024, make the following correction. On page 47849, in the first column, add the RIN in the document heading after the docket number [FR-6439-F-01] to read RIN 2502-AJ74.

Aaron Santa Anna,
Associate General Counsel for Legislation and Regulations.

[FR Doc. 2024-12702 Filed 6-10-24; 8:45 am]

BILLING CODE P